DEPARTMENT OF ENERGY

Federal Energy Regulatory Commission

[Project No. 1971-079]

Idaho Power Company; Notice of Offer of Settlement

Take notice that the following offer of settlement has been filed with the Commission and is available for public inspection.

a. Type of Application: Offer of Settlement.

b. Project No.: 1971-079.

c. Date Filed: December 30, 2019.

d. Applicant: Idaho Power Company.

e. Name of Project: Hells Canyon Hydropower Project.

f. Location: On the Snake River in Washington and Adams, Counties, Idaho; and Wallowa and Baker Counties, Oregon. The project occupies federal lands administered by the Forest Service and the Bureau of Land Management (Payette and Wallowa-Whitman National Forests and Hells Canyon National Recreational Area).

g. Filed Pursuant to: Rule 602 of the Commission's Rules of Practice and Procedure, 18 CFR 385.602.

h. Applicant Contact: Brett Dumas Director, Environmental Affairs, Idaho Power Company, P.O. Box 70, Boise, Idaho 83707.

i. FERC Contact: Alan Mitchnick, (202) 502-6074, alan.mitchnick@ferc.gov.

j. Idaho Power Company filed an Offer of Settlement on behalf of itself and signatories of a Stipulation and Implementation Agreement (SIA) between Idaho Power; the State of Oregon, by and through the Office of the Governor, the Oregon Department of Environmental Quality, and Oregon Department of Fish and Wildlife; and the State of Idaho, by and through the Office of the Governor, the Idaho Department of Environmental Quality, and the Idaho Department of Fish and Game (Parties). The SIA, which became effective on April 22, 2019, resolves, among other disagreements among the Parties, the disagreement between the States related to spring Chinook salmon and summer steelhead fish passage and reintroduction within the context of the Clean Water Act section 401 certifications.

Idaho Power, on behalf of the Parties to the SIA, requests that the Commission issue a new license for the project that incorporates the proposed license articles set forth in Appendix A of the Offer of Settlement Explanatory Statement, without material modification. The conditions involve upstream adult fish collection at Hells Canyon Dam; Pine Creek placement, monitoring, and juvenile collection program; and mid-license term fish placement evaluation report and recommendation.

k. A copy of the Offer of Settlement is available for review on the Commission's website at http://www.ferc.gov using the “eLibrary” link. Enter the docket number, excluding the last three digits, in the docket number field to access the document. For assistance, contact FERC Online Support.

l. Deadline for filing comments: Comments on the Offer of Settlement are due February 6, 2020. Reply comments are due February 26, 2020.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-1971-079.

Register online at http://www.ferc.gov/docs-filing/esubscription.asp to be notified via email of new filings and issuances related to this or other pending projects. For assistance, contact FERC Online Support.

Dated: January 7, 2020.
Kimberly D. Bose,
Secretary.

[FR Doc. 2020-00345 Filed 1-13-20; 8:45 am]

BILLING CODE 6717-01-P